COMMITTEE FOR THE IMPLEMENTATION OF TEXTILE AGREEMENTS

Determination Under the Textile and Apparel Commercial Availability Provision of the Dominican Republic-Central America-United States Free Trade Agreement (“CAFTA-DR”)

AGENCY: The Committee for the Implementation of Textile Agreements.

ACTION: Determination to add a product in unrestricted quantities to Annex 3.25 of the CAFTA-DR.

DATES: Applicable Date: January 3, 2024.

SUMMARY: The Committee for the Implementation of Textile Agreements (“CITA”) has determined that certain two-way stretch polyester/spandex woven fabric (the “subject product”), as specified below, is not available in commercial quantities in a timely manner in the CAFTA-DR countries. The product will be added to the list in Annex 3.25 of the CAFTA-DR in unrestricted quantities.

FOR FURTHER INFORMATION CONTACT: Laurie Mease, Office of Textiles and Apparel, U.S. Department of Commerce, (202) 482-2043 or Laurie.Mease@trade.gov.

For Further Information Online: https://otexaprod.trade.gov/otexacapublicsite/requests/cafta under “Approved Requests,” File Number: CA2023001.

SUPPLEMENTARY INFORMATION:

Authority: The CAFTA-DR; section 203(o)(4) of the Dominican Republic-Central America-United States Free Trade Agreement Implementation Act (“CAFTA-DR Implementation Act”), Public Law 109-53; the Statement of Administrative Action accompanying the CAFTA-DR Implementation Act; and Presidential Proclamation 7987 (February 28, 2006).

Background: The CAFTA-DR provides a list in Annex 3.25 for fabrics, yarns, and fibers that the Parties to the CAFTA-DR have determined are not available in commercial quantities in a timely manner in the territory of any Party. The CAFTA-DR provides that this list may be modified pursuant to Article 3.25.4 and 3.25.5, when the United States determines that a fabric, yarn, or fiber is not available in commercial quantities in a timely manner in the territory of any Party. See Annex 3.25 of the CAFTA-DR; see also section 203(o)(4)(C) of the CAFTA-DR Implementation Act.

The CAFTA-DR Implementation Act requires the President to establish procedures governing the submission of a request and providing opportunity for interested entities to submit comments and supporting evidence before a commercial availability determination is made. In Presidential Proclamation 7987, the President delegated to CITA the authority under section 203(o)(4) of CAFTA-DR Implementation Act for modifying the Annex 3.25 list. Pursuant to this authority, on September 15, 2008, CITA published modified procedures it would follow in considering requests to modify the Annex 3.25 list of products determined to be not commercially available in the territory of any Party to the CAFTA-DR (Modifications to Procedures for Considering Requests Under the Commercial Availability Provision of the Dominican Republic-Central America-United States Free Trade Agreement, 73 FR 53200) (“CITA's procedures”).

On October 31, 2023, CITA received a commercial availability request from Konffetty S.A. de C.V. (“Konffetty”) for certain two-way stretch polyester/spandex woven fabric, as specified below. On November 2, 2023, in accordance with CITA's procedures, CITA notified interested parties of the Request, which was posted on the dedicated website for CAFTA-DR commercial availability proceedings. In its notification, CITA advised that any Response with an Offer to Supply (“response”) must be submitted by November 15, 2023, and any Rebuttal to a Response (“rebuttal”) must be submitted by November 21, 2023, in accordance with sections 6 and 7 of CITA's procedures.

Based on a request from an interested entity, and in accordance with section 6(a) of CITA's procedures, CITA extended the response deadline by two business days, through November 17, 2023. Correspondingly, the rebuttal deadline was extended by two business days, through November 24, 2023.

On November 17, 2023, Summitex Woven Textiles (“Summitex”) submitted a response to the pending request. On November 24, 2023, Konffetty submitted a rebuttal to Summitex's response. In accordance with section 203(o)(4) of the CAFTA-DR Implementation Act, Article 3.25 of the CAFTA-DR, and section 8(c)(4) of CITA's procedures, because there was insufficient information on the record to make a determination within 30 business days, CITA extended the period to make a determination by 14 U.S. business days. Further, in accordance with section 8(c)(4)(i) of its procedures, CITA called for a public meeting on December 6, 2023 with representatives of Konffetty and Summitex to provide the companies with an opportunity to submit additional evidence to substantiate their claims regarding Summitex's capability to supply the subject product in commercial quantities in a timely manner.

Section 203(o)(4)(C)(ii) of the CAFTA-DR Implementation Act provides that after receiving a request, a determination will be made as to whether the subject product is available in commercial quantities in a timely manner in the CAFTA-DR countries. In the instant case, the information on the record indicates that Konffetty made significant efforts to source the fabric in the CAFTA-DR region, specifically from Summitex. However, Summitex has not demonstrated its ability to supply the subject product in commercial quantities in a timely manner. Therefore, in accordance with section 203(o) of the CAFTA-DR Implementation Act and CITA's procedures, as no interested entity has substantiated its ability to supply the subject product in commercial quantities in a timely manner, CITA has determined to add the specified fabric to the list in Annex 3.25 of the CAFTA-DR.

The subject product has been added to the list in Annex 3.25 of the CAFTA-DR in unrestricted quantities. A revised list has been posted on the dedicated website for CAFTA-DR Commercial Availability proceedings, at https://otexaprod.trade.gov/otexacapublicsite/shortsupply/cafta.

Specifications: Certain Two-Way Stretch Polyester/Spandex Woven Fabric

HTS: 5407.51, 5407.52, or 5407.53

Fiber Content (AATCC 20A): 95% (94%-96%) polyester and 5% (4%-6%) spandex

Yarn Size:

Warp: 100D +40D polyester/spandex textured filament

Weft: (100D + 40D SP)*2 polyester/spandex textured filament

Thread Count (ASTM D3775):

English (yarns/inch2): 118 (116-120) warp x 82 (81-83) weft

Metric (yarns/cm2): 300 (296-305) warp x 209 (206-212) weft

Fabric Weight (ASTM D3776):

English: 3.72 (3.65-3.78) oz/yd2

Metric: 126 (124-128) g/m2

Weave Type: Woven Plain and Twill Weave

Fabric Width (ASTM D3774):

English: 61.25 (60.50-62.50) inches

Metric: 153 (151-155) cm

Stretch (ASTM D3107):

Warp: 15% (14%-16%)

Weft: 17% (16%-18%)

Finish: Optical white Prepared for printing/piece dyed/yarn dyed/with soft hand (no chemistry finish)

Jennifer Knight,
Chairman, Committee for the Implementation of Textile Agreements.

[FR Doc. 2023-28876 Filed 1-2-24; 8:45 am]

BILLING CODE 3510-DR-P